DEPARTMENT OF THE TREASURY

Internal Revenue Service

26 CFR Part 301

[TD 9518]

RIN 1545-BJ52

Specified Tax Return Preparers Required To File Individual Income Tax Returns Using Magnetic Media; Correction

AGENCY: Internal Revenue Service (IRS), Treasury.

ACTION: Correction to final regulations.

SUMMARY: This document describes a correction to final regulations (TD 9518) that were published in the Federal Register on Wednesday, March 30, 2011 (76 FR 17521) providing guidance to specified tax return preparers who prepare and file individual income tax returns using magnetic media pursuant to section 6011(e)(3) of the Internal Revenue Code.

DATES: This correction is effective on April 22, 2011, and is applicable to individual income tax returns filed after December 31, 2010.

FOR FURTHER INFORMATION CONTACT: Keith L. Brau, (202) 622-4940 (not a toll-free number).

SUPPLEMENTARY INFORMATION:

Background

The final regulations that are the subject of this correction are under section 6011 of the Internal Revenue Code.

Need for Correction

As published, final regulations (TD 9518) contain an error that may prove to be misleading and is in need of clarification.

Correction of Publication

Accordingly, the publication of the final regulations (TD 9518) which were the subject of FR Doc. 2011-7571 is corrected as follows:

On page 17528, column 2, under CFR Part Heading “PART 301—PROCEDURE AND ADMINISTRATION”, the language “Par. 4. The authority citation for part 301 is amended by adding an entries in numerical order to read, in part, as follows:” is corrected to read “Par. 4. The authority citation for part 301 is amended by adding entries in numerical order to read, in part, as follows:”.

LaNita Van Dyke,
Chief, Publications and Regulations Branch, Legal Processing Division, Associate Chief Counsel (Procedure and Administration).

[FR Doc. 2011-9737 Filed 4-21-11; 8:45 am]

BILLING CODE 4830-01-P